SECURITIES AND EXCHANGE COMMISSION

17 CFR Parts 240 and 249

[Release No. 34-71194A; File No. S7-15-11]

RIN 3235-AL14

Removal of Certain References to Credit Ratings Under the Securities Exchange Act of 1934

AGENCY: Securities and Exchange Commission.

ACTION: Final rule; correction.

SUMMARY: The Securities and Exchange Commission published a document in the Federal Register of January 8, 2014 that contained an incorrect instruction. This correction is being published to correct instruction 5.b in that document.

DATES: Effective July 7, 2014.

FOR FURTHER INFORMATION CONTACT: Carrie A. O'Brien, Special Counsel, at (202) 551-5640; Office of Financial Responsibility (Net Capital, Customer Protection, and Books and Records Requirements).

SUPPLEMENTARY INFORMATION:

§ 240.15c3-1a [Corrected]

In the Federal Register of January 8, 2014, in FR Doc. 2013-31426, on page 1549, in the 14th line of the third column, Instruction 5.b. is corrected to read as follows:

b. Removing paragraphs (c)(4)(vi)(A) through (c)(4)(vi)(D);

Dated: July 2, 2014.
Lynn M. Powalski,
Deputy Secretary.

[FR Doc. 2014-15841 Filed 7-7-14; 8:45 am]

BILLING CODE 8011-01-P